DEPARTMENT OF DEFENSE

Office of the Secretary

[Transmittal No. 23-13]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-13, and Policy Justification.

Dated: October 2, 2024.
Aaron T. Siegel,
Alternate OSD Federal Register Liaison Officer, Department of Defense.

Transmittal No. 23-13

Notice of Proposed Issuance of Letter of Offer Pursuant to Section 36(b)(1) of the Arms Export Control Act, as amended

(i) Prospective Purchaser: Government of Kuwait

(ii) Total Estimated Value:

Major Defense Equipment * | $ 0
Other | $1.8 billion
TOTAL | $1.8 billion

Funding Source: National Funds

(iii) Description and Quantity or Quantities of Articles or Services under Consideration for Purchase:

Major Defense Equipment (MDE):

None

Non-MDE:

Continuation of contractor engineering technical services; contractor maintenance services; Hush House (an enclosed, noise-suppressed aircraft jet engine testing facility) support services; and Liaison Office Support for the Government of Kuwait's F/A-18 C/D/E/F program, to include: F/A-18 avionics software upgrades; engine component improvements; ground support equipment; engine and aircraft spares and repair parts; publications and technical documentation; Engineering Change Proposals (ECP); U.S. Government and contractor programmatic, financial, and logistics support; maintenance and engineering support; F404/F414 engine and engine test cell support; and other related elements of logistical and program support.

(iv) Military Department: Navy (KU-P-GHY)

(v) Prior Related Cases, if any: KU-P-GGX, KU-P-GHI, KU-P-GHJ, KU-P-SBG

(vi) Sales Commission, Fee, etc., Paid, Offered, or Agreed to be Paid: None

(vii) Sensitivity of Technology Contained in the Defense Article or Defense Services Proposed to be Sold: None

(viii) Date Report Delivered to Congress: June 13, 2023

* As defined in Section 47(6) of the Arms Export Control Act.

POLICY JUSTIFICATION

Kuwait—Follow-On Technical Support

The Government of Kuwait has requested to buy continuation of contractor engineering technical services; contractor maintenance services; Hush House (an enclosed, noise-suppressed aircraft jet engine testing facility) support services; and Liaison Office Support for the Government of Kuwait's F/A-18 C/D/E/F program, to include: F/A-18 avionics software upgrades; engine component improvements; ground support equipment; engine and aircraft spares and repair parts; publications and technical documentation; Engineering Change Proposals (ECP); U.S. Government and contractor programmatic, financial, and logistics support; maintenance and engineering support; F404/F414 engine and engine test cell support; and other related elements of logistical and program support. The estimated cost is $1.8 billion.

This proposed sale will support the foreign policy and national security objectives of the United States by helping to improve the security of a Major Non-NATO ally that has been an important force for political stability and economic progress in the Middle East.

The proposed sale will improve Kuwait's ability to meet current and future regional threats. Kuwait will have no difficulty absorbing this support and services into its armed forces.

The proposed sale of this equipment and support will not alter the basic military balance in the region.

The principal contractors will be Sigmatech, Inc., Huntsville, AL; Kay and Associates, Inc., Buffalo Grove, IL; Kellogg, Brown, and Root, Houston, TX; L3 Technologies, Melbourne, FL; The Boeing Company, St. Louis, MO; General Electric, Lynn, MA; Industrial Financial Services, Ottawa, ON; and Lockheed Martin, Orlando, FL. Additional principal contractors will be determined by a competitive contractual award process. There are no known offset agreements proposed in connection with this potential sale.

Implementation of this proposed sale will require the assignment of seven hundred thirty-five (735) U.S. Government and contractor representatives to Kuwait for a period of three years to establish and maintain operational capability.

There will be no adverse impact on U.S. defense readiness as a result of this proposed sale.

[FR Doc. 2024-23120 Filed 10-4-24; 8:45 am]

BILLING CODE 6001-FR-P